FEDERAL COMMUNICATIONS COMMISSION

47 CFR Part 0

[DA 04-62]

Commission Organization

AGENCY: Federal Communications Commission.

ACTION: Final rule.

SUMMARY: The Commission's rules state that the organization and functions of its major staff units are described in the rules. The Office of Communications Business Opportunities is a major staff unit of the Commission, but the Office's functions and delegation of authority are not currently described in the rules. This action corrects that omission by adding the Office's functions and delegation of authority to the rules.

DATES: Effective February 17, 2004.

FOR FURTHER INFORMATION CONTACT: Carolyn Fleming Williams, 202-418-0990.

SUPPLEMENTARY INFORMATION: This action was taken by order of the Managing Director on authority delegated by the Commission. The Order (DA 04-62) was released on January 22, 2004, and the full text of the Order is available for public inspection on-line at http://www.fcc.gov or in the Reference Center of the Federal Communications Commission, 445 12th Street, SW., Washington, DC 20554. This Order amends part 0 of the Commission's rules to add the functions and delegation of authority of the Office of Communications Business Opportunities which was established in October 1994.

Since this addition pertains to agency organization, procedure, and practice, it is not subject to review by the U.S. General Accounting Office under the Congressional Review Act, and the notice and comment provisions of the Administrative Procedure Act contained in 5 U.S.C. 553(b) are not applicable.

List of Subjects in 47 CFR Part 0

Organization and functions (Government agencies).

Federal Communications Commission.
Andrew S. Fishel,
Managing Director.

For the reasons set forth in the preamble, the Federal Communications Commission amends 47 CFR part 0 as follows:

PART 0—COMMISSION ORGANIZATION

1. The authority citation for part 0 continues to read as follows:

Authority: Sec. 5, 48 Stat. 1068, as amended; 47 U.S.C. 155, 225, unless otherwise noted.

2. Add § 0.101 and revise the undesignated center heading to read as follows:

OFFICE OF COMMUNICATIONS BUSINESS OPPORTUNITIES

§ 0.101 Functions of the office.

(a) The Office of Communications Business Opportunities (OCBO), as a staff office to the Commission, develops, coordinates, evaluates, and recommends to the Commission, policies, programs, and practices that promote participation by small entities, women, and minorities in the communications industry. A principal function of the Office is to lead, advise, and assist the Commission, including all of its component Bureau/Office managers, supervisors, and staff, at all levels, on ways to ensure that the competitive concerns of small entities, women, and minorities, are fully considered by the agency in notice and comment rulemakings. In accordance with this function, the Office:

(1) Conducts independent analyses of the Commission's policies and practices to ensure that those policies and practices fully consider the interests of small entities, women, and minorities.

(2) Advises the Commission, Bureaus, and Offices of their responsibilities under the Congressional Review Act provisions regarding small businesses; the Report to Congress regarding Market Entry Barriers for Small Telecommunications Businesses (47 U.S.C. 257); and the Telecommunications Development Fund (47 U.S.C. 614).

(b) The Office has the following duties and responsibilities:

(1) Through its director, serves as the principal small business policy advisor to the Commission;

(2) Develops, implements, and evaluates programs and policies that promote participation by small entities, women and minorities in the communications industry;

(3) Manages the Regulatory Flexibility Analysis process pursuant to the Regulatory Flexibility Act and the Small Business Regulatory Enforcement Fairness Act to ensure that small business interests are fully considered in agency actions;

(4) Develops and recommends Commission-wide goals and objectives for addressing the concerns of small entities, women, and minorities and reports of achievement;

(5) Acts as the principal channel for disseminating information regarding the Commission's activities and programs affecting small entities, women, and minorities;

(6) Develops, recommends, coordinates, and administers objectives, plans and programs to encourage participation by small entities, women, and minorities in the decision-making process;

(7) Promotes increased awareness within the Commission of the impact of policies on small entities, women, and minorities;

(8) Acts as the Commission's liaison to other federal agencies on matters relating to small business.

3. Add § 0.371 and an undesignated center heading to read as follows:

OFFICE OF COMMUNICATIONS BUSINESS OPPORTUNITIES

§ 0.371 Authority delegated.

The Director, Office of Communications Business Opportunities, or his/her designee, is hereby delegated authority to:

(a) Manage the Commission's compliance with the Regulatory Flexibility Act and the Small Business Regulatory Enforcement Fairness Act;

(b) Develop the Commission's goals and objectives regarding increased opportunities for small entities, women, and minorities;

(c) Collect and analyze data on the Commission's efforts toward ensuring full consideration of the interests of small entities, women, and minorities;

(d) Prepare and release reports on the opportunities available and obstacles faced by small entities, women, and minorities in the communications industry;

(e) Conduct studies and collect data on the issues and problems faced by small entities, women, and minorities in the communications industry;

(f) Assume representational role on behalf of the Commission before other federal agencies and at conferences, meetings, and hearings regarding small entities, women, and minorities in the communications industry;

(g) Develop programs and strategies designed to increase competition, employment opportunities and diversity of viewpoint through the promotion of ownership by small entities, women, and minorities;

(h) Manage the Commission's efforts to increase the awareness of small entities, women, and minorities and to ensure that all available information is accessible to the same.

[FR Doc. 04-3361 Filed 2-13-04; 8:45 am]

BILLING CODE 6712-01-P